Proclamation 9835 of December 31, 2018

National Slavery and Human Trafficking Prevention Month, 2019

By the President of the United States of America

A Proclamation

Human trafficking is a modern form of slavery. It is not enough merely to denounce this horrific assault on human dignity; we must actively work to prevent and end this barbaric exploitation of innocent victims. During National Slavery and Human Trafficking Prevention Month, we pledge to continue the battle to abolish modern slavery and restore the lives of those affected by human trafficking.

Human trafficking harms adults and children of all ages and demographics. Through force, fraud, and coercion, traffickers push their victims into demeaning forms of abuse, including domestic servitude and commercial sexual exploitation. These crimes often remain hidden because victims are reluctant to seek help for a variety of reasons, including language barriers, fear of traffickers and law enforcement, and lack of trust. Human trafficking destroys precious lives and threatens our Nation's security, public health, and the rule of law. It is a scourge on the global community.

We are morally obligated to confront and defeat the abhorrent practice of human trafficking, and I am keeping my pledge to take aggressive action. In February of 2017, I signed an Executive Order to dismantle transnational criminal organizations that traffic and exploit people. I have made it a top priority to fully secure our Nation's Southwest border, including through the continued construction of a physical wall, so that we can stop human trafficking and stem the flow of deadly drugs and criminals into our country. And my Administration is negotiating tough forced-labor provisions in our new trade agreements, including in the United States-Mexico-Canada Agreement, or USMCA.

In April of 2018, I was proud to sign into law the “Allow States and Victims to Fight Online Sex Trafficking Act of 2017”, landmark legislation to fight online sex trafficking. This legislation makes it easier to take legal action against individuals who use websites to facilitate sex trafficking, helping victims seek justice against the websites that profit from their exploitation. It also clarifies that those who benefit from knowingly assisting, supporting, or facilitating an act of sex trafficking are in violation of Federal law.

At my direction, Federal departments and agencies are ensuring full enforcement of our laws so that those who seek to exploit our people and break our laws receive the full measure of justice they deserve. In 2017 alone, the Department of Justice secured convictions against more than 500 defendants in human trafficking cases and the Federal Bureau of Investigation dismantled more than 42 criminal enterprises engaged in child sex trafficking. The Department of Homeland Security initiated more than 800 human trafficking cases, resulting in at least 1,500 arrests and 530 convictions. The Department of Health and Human Services modernized the National Human Trafficking Hotline. The Department of Transportation recently established an Advisory Committee on Human Trafficking to assist State and local transportation stakeholders in developing best practices for combating human trafficking. And my Interagency Task Force to Monitor and Combat Trafficking in Persons is working tirelessly to prosecute traffickers and protect human trafficking victims. The task force has also enhanced collaboration with other nations, businesses, and survivors of human trafficking.

Under my Administration, the Federal Government will continue to play a leading role in the fight against human trafficking. But all Americans can help in this effort by recognizing key indicators that can potentially save a life. Public awareness and education are critical, especially for those most likely to encounter perpetrators of enslavement and their victims, such as healthcare professionals, law enforcement officers, social services providers, and educators. Through the Department of Homeland Security's Blue Campaign, citizens can learn to identify victims, report suspected instances of trafficking, and bring those who exploit others to justice.

As a Nation, we cherish and uphold the notion that all people are created with inherent dignity and entitled to life, liberty, and the pursuit of happiness. Human trafficking and enslavement robs victims of these God-given endowments. Modern slavery in all its manifestations is a blight on humanity and an affront to our fundamental values. We will not rest until we eradicate this evil.

NOW, THEREFORE, I, DONALD J. TRUMP, President of the United States of America, by virtue of the authority vested in me by the Constitution and the laws of the United States, do hereby proclaim January 2019 as National Slavery and Human Trafficking Prevention Month, culminating in the annual observation of National Freedom Day on February 1, 2019. I call upon industry associations, law enforcement, private businesses, faith-based and other organizations of civil society, schools, families, and all Americans to recognize our vital roles in ending all forms of modern slavery and to observe this month with appropriate programs and activities aimed at ending and preventing all forms of human trafficking.

IN WITNESS WHEREOF, I have hereunto set my hand this thirty-first day of December, in the year of our Lord two thousand eighteen, and of the Independence of the United States of America the two hundred and forty-third.

[FR Doc. 2019-00049

Filed 1-7-19; 8:45 am]

Billing code 3295-F9-P